DEPARTMENT OF COMMERCE

International Trade Administration

[A-485-805]

Certain Small Diameter Carbon and Alloy Seamless Standard, Line and Pressure Pipe From Romania: Final Results of Antidumping Duty Administrative Review; 2015-2016

AGENCY: Enforcement and Compliance, International Trade Administration, Department of Commerce.

SUMMARY: On June 7, 2017, the Department of Commerce (the Department) published the preliminary results of the administrative review of the antidumping duty order on certain small diameter carbon and alloy seamless standard, line and pressure pipe from Romania. The review covers one producer/exporter of the subject merchandise, S.C. Silcotub S.A. (Silcotub). The period of review (POR) is August 1, 2015, through July 31, 2016.

No interested party submitted comments on the preliminary results. We made no changes to the margin calculations for the final results of this review. Therefore, the final results do not differ from the preliminary results. The final weighted-average dumping margin for Silcotub is listed below in the “Final Results of Review” section of this notice.

DATES: Applied September 25, 2017.

FOR FURTHER INFORMATION CONTACT: Katherine Johnson or Denisa Ursu, AD/CVD Operations, Office VIII, Enforcement and Compliance, International Trade Administration, U.S. Department of Commerce, 1401 Constitution Avenue NW., Washington, DC 20230; telephone: (202) 482-4929 or (202) 482-2285, respectively.

SUPPLEMENTARY INFORMATION:

Background

This review covers one producer/exporter of the subject merchandise, Silcotub. On June 7, 2017, the Department published the Preliminary Results in the Federal Register.¹ We invited parties to comment on the Preliminary Results.² No interested party submitted comments. Further, no party submitted a request for a hearing in the instant review. The Department conducted this administrative review in accordance with section 751(a) of the Tariff Act of 1930, as amended (the Act).

¹ See Certain Small Diameter Carbon and Alloy Seamless Standard, Line and Pressure Pipe from Romania: Preliminary Results of Antidumping Duty Administrative Review; 2015-2016, 82 FR 26452 (June 7, 2017) (Preliminary Results), and accompanying Memorandum “Certain Small Diameter Carbon and Alloy Seamless Standard, Line and Pressure Pipe from Romania: Decision Memorandum for Preliminary Results of Antidumping Duty Administrative Review; 2015-2016,” dated June 1, 2017 (Preliminary Decision Memorandum).

² Preliminary Results, 82 FR at 26453.

Scope of the Order

The merchandise subject to the Order ³ is small diameter seamless pipe. The product is currently classified under the Harmonized Tariff Schedule of the United States (HTSUS) subheadings 7304.10.10.20, 7304.10.50.20, 7304.19.10.20, 7304.19.50.20, 7304.31.30.00, 7304.31.60.50, 7304.39.00.16, 7304.39.00.20, 7304.39.00.24, 7304.39.00.28, 7304.39.00.32, 7304.51.50.05, 7304.51.50.60, 7304.59.60.00, 7304.59.80.10, 7304.59.80.15, 7304.59.80.20, and 7304.59.80.25. The HTSUS subheadings are provided for convenience and customs purposes only; the written product description of the scope of the Order is dispositive.⁴

³ See Notice of Amended Final Determination of Sales at Less Than Fair Value and Antidumping Duty Order: Certain Small Diameter Carbon and Alloy Seamless Standard, Line and Pressure Pipe from Romania, 65 FR 48963 (August 10, 2000) (the Order).

⁴ See Preliminary Decision Memorandum for a complete description of the scope of the Order.

Changes Since the Preliminary Results

As no parties submitted comments on the margin calculation methodology used in the Preliminary Results, the Department made no adjustments to that methodology in the final results of this review.

Final Results of the Review

As a result of this review, the Department determines that the following weighted-average dumping margin exists for entries of subject merchandise that were produced and/or exported by the following company during the POR:

Manufacturer/exporter | Weighted-average margin (percent)
S.C. Silcotub S.A. | 0.00

Assessment Rates

The Department shall determine, and U.S. Customs and Border Protection (CBP) shall assess, antidumping duties on all appropriate entries of subject merchandise in accordance with the final results of this review, pursuant to section 751(a)(2)(C) of the Act and 19 CFR 351.212(b). Because we calculated a zero margin for Silcotub in the final results of this review, we intend to instruct CBP to liquidate without regard to antidumping duties all shipments of subject merchandise manufactured and exported by Silcotub, entered or withdrawn from warehouse during the POR.

The Department intends to issue the appropriate assessment instructions to CBP 15 days after the date of publication of these final results of review.

Cash Deposit Requirements

The following cash deposit requirements will be effective upon publication of the notice of these final results for all shipments of certain small diameter carbon and alloy seamless standard, line and pressure pipe from Romania entered, or withdrawn from warehouse, for consumption on or after the publication date as provided by section 751(a)(2) of the Act: (1) The cash deposit rate for entries of subject merchandise manufactured and/or exported by Silcotub will be zero; (2) for merchandise exported by manufacturers or exporters not covered in this review but covered in a completed prior segment of the proceeding, the cash deposit rate will continue to be the company-specific rate published for the most recentlycompleted segment; (3) if the exporter is not a firm covered in this review, a prior review, or the original investigation, but the manufacturer is, the cash deposit rate will be the rate established for the most recently- completed segment for the manufacturer of the merchandise; (4) the cash deposit rate for all other manufacturers or exporters will continue to be 13.06 percent, the all-others rate established in the Order. These cash deposit requirements, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of double antidumping duties.

Administrative Protective Order

In accordance with 19 CFR 351.305(a)(3), this notice also serves as a reminder to parties subject to administrative protective order (APO) of their responsibility concerning the return or destruction of proprietary information disclosed under the APO, which continues to govern business proprietary information in this segment of the proceeding. Timely written notification of the return or destruction of APO materials or conversion to judicial protective order is hereby requested. Failure to comply with the regulations and terms of an APO is a violation subject to sanction.

Notification to Interested Parties

We intend to issue and publish these results in accordance with sections 751(a)(1) and 777(i)(1) of the Act and 19 CFR 351.213(h) and 351.221(b)(5).

Dated: September 19, 2017.
Gary Taverman,
Deputy Assistant Secretary for Antidumping and Countervailing Duty Operations, performing the non-exclusive functions and duties of the Assistant Secretary for Enforcement and Compliance.

[FR Doc. 2017-20401 Filed 9-22-17; 8:45 am]

BILLING CODE 3510-DS-P